DEPARTMENT OF HOUSING AND URBAN DEVELOPMENT

[Docket No. FR-5420-N-03]

Notice of Regulatory Waiver Requests Granted for the Third Quarter of Calendar Year 2010

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on July 1, 2010, and ending on September 30, 2010.

FOR FURTHER INFORMATION CONTACT: For general information about this notice, contact Camille E. Acevedo, Associate General Counsel for Legislation and Regulations, Department of Housing and Urban Development, 451 7th Street, SW., Room 10282, Washington, DC 20410-0500, telephone 202-708-1793 (this is not a toll-free number). Persons with hearing- or speech-impairments may access this number through TTY by calling the toll-free Federal Information Relay Service at 800-877-8339.

For information concerning a particular waiver that was granted and for which public notice is provided in this document, contact the person whose name and address follow the description of the waiver granted in the accompanying list of waivers that have been granted in the second quarter of calendar year 2010.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from July 1, 2010, through September 30, 2010. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the third quarter of calendar year 2010) before the next report is published (the fourth quarter of calendar year 2010), HUD will include any additional waivers granted for the third quarter in the next report.

Accordingly, information about approved waiver requests pertaining to HUD regulations is provided in the Appendix that follows this notice.

Dated: December 17, 2010.
Helen R. Kanovsky,
General Counsel.

Appendix

Listing of Waivers of Regulatory Requirements Granted by Offices of the Department of Housing and Urban Development July 1, 2010 Through September 30, 2010

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 58.22(a).

Project/Activity: The city of Pocatello, Idaho (City) purchased a foreclosed property located at 147 and 147 A/B Roosevelt Avenue using non-HUD funds before the City entered into a Memorandum of Agreement with the State Historic Preservation Office and Advisory Council on Historic Preservation, and before the City completed the environmental review. This was done in order to not lose the property, since the State Historic Preservation Office determined that the rear structure was eligible for listing in the National Register for Historic Places and mitigation would be required.

Nature of Requirement: HUD's regulation at 24 CFR 58.22(a) requires that an environmental review be performed and a request for release of funds be completed and certified prior to the commitment of non-HUD funds to a project using HUD funds.

Granted By: Mercedes M. Márquez, Assistant Secretary for Community Planning and Development.

Date Granted: September 28, 2010.

Reason Waived: The waiver was granted based on the following findings: the above project would further the HUD mission and advance HUD program goals to eliminate blight and develop affordable housing; the errors made in the environmental process for the commitment of non-HUD funds were made in good faith; no HUD funds were committed; and, based on the environmental assessment and the HUD field inspection, granting a waiver would not result in any unmitigated, adverse environmental impact.

Contact: Danielle Schopp, Office of Environment and Energy, Office of Community Planning and Development, Department of Housing and Urban Development, 451 7th Street, SW., Room 7250, Washington, DC 20410-7000, telephone (202) 402-4442.

• Regulation: 24 CFR 91.10(b).

Project/Activity: The city of Bradenton, FL (City) requested a waiver of 24 CFR 91.10(b) because it sought to change its program year start date from May 1 to October 1 for the 2010 program year, effectively lengthening its 2009 program year.

Nature of Requirement: HUD's regulation at 24 CFR 91.10(b) requires that grantees notify HUD in writing at least two months before the date the program year would have ended if the program year had not been lengthened or two months before the end of a proposed shortened program year.

Granted By: Mercedes Márquez, Assistant Secretary for Community Planning and Development.

Date Granted: August 9, 2010.

Reason Waived: Since the City wanted to lengthen its 2009 program year, the City was required to notify HUD in writing of its intent to do so no later than February 28, 2010. The City notified HUD on March 22, 2010, of its intent to lengthen its 2009 program year, and did not request a regulatory waiver of the missed deadline until July 15, 2010. HUD granted the waiver because the City advised that it sought to lengthen its 2009 program year so that it could synchronize future CDBG program year start dates, beginning with program year 2010, to coincide with the City's budget year.

Contact: Gloria Coates, Office of Block Grant Assistance, Entitlement Communities Division, Office of Community Planning and Development, Department of Housing and Urban Development, 451 7th Street, SW., Room 7282, Washington, DC 20410-7000, telephone (202) 402-2184.

• Regulation: 24 CFR 91.105(c)(2).

Project/Activity: The city of New Orleans, LA (City) received approximately $1,042,000 in Community Development Block Grant (CDBG) funds pursuant to Section 106(c)(4) of the Housing and Community Development Act of 1974 (HCDA) that were scheduled to expire at the end of Fiscal Year 2010. This statutory provision permits grantees affected by a major disaster declared by the President under the Robert T. Stafford Disaster Relief and Emergency Assistance Act to receive funds that become available as a result of actions under sections 104(e) or 111 of the HCDA. The receipt of funds constituted a substantial amendment to the City's consolidated plan, which required that citizens be provided no less than 30 days to review and comment on this substantial amendment to the consolidated plan prior to implementation of activities assisted with such funds.

Nature of Requirement: HUD's regulation at 24 CFR 91.105(c)(2) requires that citizens must be provided with reasonable notice and an opportunity to comment on substantial amendments to the consolidated plan of the jurisdiction in which the citizens reside. The citizen participation plan requires that citizens be given no less than 30 days to comment on substantial amendments before they are implemented. The city received approximately $1,042,000 in CDBG funds, which constituted a substantial amendment to its consolidated plan.

Granted By: Mercedes Márquez, Assistant Secretary for Community Planning and Development.

Date Granted: September 22, 2010.

Reason Waived: The City was allowed to shorten its comment period from 30 days to three days so that the City could carry out eligible activities utilizing $1,042,000 in CDBG funds before such funds expired at the end of Fiscal Year 2010.

Contact: Mark Walling, Entitlement Communities Division, Office of Block Grant Assistance, Office of Community Planning and Development, Department of Housing and Urban Development, 451 7th Street, SW., Room 7282, Washington, DC 20410, telephone 402-5441.

• Regulations: 24 CFR 92.214(a)(6).

Project/Activity: Prince George's County of Maryland (County) requested a waiver of 24 CFR 92.214(a)(6) of the HOME regulations to allow it to provide additional HOME funds to a project that had previously been assisted with HOME funds.

Nature of Requirements: HUD's regulation at 24 CFR 92.214(a)(6) prohibits participating jurisdictions from investing additional HOME funds in a project previously assisted with HOME funds, except during the first year after project completion.

Granted By: Mercedes M. Márquez, Assistant Secretary for Community Planning and Development.

Date Granted: August 30, 2010.

Reasons Waived: The County requested a waiver of 24 CFR 92.214(a)(6) of the HOME regulations to permit the County to provide additional HOME funds to assist the rehabilitation of a 100-unit affordable housing project for low-income seniors. The County was granted the waiver because use of the additional HOME funds would permit Prince George's County to preserve and extend the affordability of a low-income senior project.

Contact: Virginia Sardone, Deputy Director, Office of Affordable Housing Programs, Office of Community Planning and Development, Department of Housing and Urban Development, 451 7th Street, SW., Room 7164, Washington, DC 20410-7000, telephone (202) 708-4606.

• Regulations: 24 CFR 92.300(a)(1).

Project/Activity: The State of Minnesota requested a waiver of 24 CFR 92.300(a)(1) of the HOME regulations to permit limited liability company (LLC) ownership of two HOME projects by the Southwest Minnesota Housing Partnership (SWMHP) in Buff County, MN.

Nature of Requirement: HUD's regulation at 24 CFR 92.300(a)(1) requires that HOME funds allocated for investment by a community housing development organization (CHDO) be provided to the CHDO, its subsidiary, or a partnership of which it or its subsidiary is the managing general partner.

Granted By: Mercedes M. Márquez, Assistant Secretary for Community Planning and Development.

Date Granted: August 16, 2010.

Reasons Waived: For the first project considered by the waiver, SWMHP is the sole member and has 100 percent ownership of the LLC that owns the project. HUD determined that no waiver was required here because the LLC is a subsidiary of the CHDO and 24 CFR 92.300(a)(1) permits the State to provide funds directly to a CHDO subsidiary. For the second project considered by the waiver, HUD determined that SWMHP's 80 percent membership interest and voting share give it effective management and control of the LLC as required by 24 CFR 92.300(a)(1).

Contact: Virginia Sardone, Deputy Director, Office of Affordable Housing Programs, Community Planning and Development, Department of Housing and Urban Development, 451 7th Street, SW., Washington, DC 20410-7000, telephone (202) 708-3002.

• Regulation: 24 CFR 570.308(a)(1).

Project/Activity: The city of Hammonton, NJ (City) elected to accept its status as an entitlement community for FY 2011 after relinquishing such status for FY 2010. The City desires to enter into a joint agreement with Atlantic County, NJ, to plan and implement a joint housing and community development program.

Nature of Requirement: A city that has been classified as a metropolitan city may accept its status, but elect not to receive a CDBG grant. A city or town such as Hammonton that accepts its status may enter into a joint agreement with an urban county, but HUD's regulation at 24 CFR 570.308(a)(1) provides that a county may only do so when the county is seeking a three-year requalification as an urban county. Atlantic County is currently entering into its second year of qualification for FYs 2010-2012 and will requalify as an urban county in 2012 for FYs 2013-2015.

Granted By: Mercedes Márquez, Assistant Secretary for Community Planning & Development.

Date Granted: July 16, 2010.

Reason Waived: The City does not have the available resources to prepare the CDBG application and reporting documentation, such as the citizen participation plan, Consolidated Plan/Action Plan, fair housing analysis, and Consolidated Annual Performance and Evaluation Report. In addition, the City staff does not have the skills to conduct transaction in HUD's Integrated Disbursement and Information System, which is necessary for successful CDBG program administration. Because Atlantic County was willing to provide the City with administrative services and supported the City's request for a waiver, the waiver was granted.

Contact: Gloria Coates, Office of Block Grant Assistance, Entitlement Communities Division, Office of Community Planning and Development, Department of Housing and Urban Development, 451 7th Street, SW., Room 7282, Washington, DC 20410-7000, telephone (202) 402-2184.

• Regulation: 24 CFR 570.308(a)(1).

Project/Activity: The city of Torrance, CA, (City) has qualified as a metropolitan city since 1974 but elected not to receive its CDBG grant until FY 2011. The City desires to enter into a joint agreement with Los Angeles County, CA to plan and implement a joint community development program.

Nature of Requirement: A city that has been designated as a metropolitan city may accept its status but elect not to receive its CDBG grant. A city that now elects to accept its CDBG grant such as Torrance may enter into a joint agreement with an urban county, but HUD's regulation at 24 CFR 570.308(a)(1) provides that a city may only do so when the county is seeking a three-year requalification as an urban county. Los Angeles County is currently entering into its third year of qualification for FYs 2010-2011 and will requalify as an urban county in 2011 for FYs 2012-2014.

Granted By: Mercedes Márquez, Assistant Secretary for Community Planning & Development.

Date Granted: August 16, 2010.

Reason Waived: Torrance has never carried out any activities under the CDBG program and does not have the available resources to prepare the CDBG application and reporting documentation, such as the citizen participation plan, Consolidated Plan/Action Plan, fair housing analysis, and Consolidated Annual Performance and Evaluation Report. In addition, Torrance staff does not have the skills to conduct transactions in HUD's Integrated Disbursement and Information System, which is necessary for successful CDBG program administration. Because Los Angeles County was willing to provide Torrance with administrative services and supported the City's request for a waiver, the waiver was granted.

Contact: Gloria Coates, Office of Block Grant Assistance, Entitlement Communities Division, Office of Community Planning and Development, Department of Housing and Urban Development, 451 7th Street, SW., Room 7282, Washington, DC 20410-7000, telephone (202) 402-2184.

• Regulation: 24 CFR 574.330(a)(1) and (b)(1).

Project/Activity: The Downtown Emergency Service Center (DESC) located in the city of Seattle, WA (City) is funded by a HOPWA competitive grant recipient that provides permanent and supportive services to persons living with HIV/AIDS. Following a HUD field office compliance monitoring visit in April 2010, it was determined that DESC provided short-term supported housing to 60 families, beyond the limit of 50 families as prescribed in the HOPWA regulation. In addition, the center was also supporting these families for longer than the allotted six-month period.

Nature of Requirement: The HOPWA regulation at 24 CFR 574.330(a)(1) and (b)(1) prohibits short-term supported housing facilities from providing residence to any individual for more than 60 days during any six month period. Rent, mortgage, and utilities payments to prevent the homelessness of the tenant or mortgagor of a dwelling may not be provided to such an individual for these costs accruing over a period of more than 21 weeks in any 52 week period. The regulation also prohibits any short-term supported facility from providing shelter or housing at any single time to more than 50 families or individuals.

Granted By: Mercedes M. Márquez, Assistant Secretary for Community Planning and Development.

Date Granted: September 9, 2010.

Reason Waived: The waiver was granted because this HOPWA assisted housing project fills a need for temporary housing and neither of the two alternative local facilities, which were not HUD-funded facilities, was acceptable. One facility only accepted residents on an “ad hoc, late-night attendance basis,” while the other required religious participation on behalf of the program beneficiaries. In addition, it was recognized that the regulatory 50-individual/50-bed limitation coupled with the lack of available alternative facilities capable of addressing client service needs, presented significant challenges to the City in addressing homelessness.

Contact: Mark Johnston, Deputy Assistance Secretary for Special Needs, Office of Community Planning and Development, Department of Housing and Urban Development, 451 7th Street, SW., Room 7276, Washington, DC 20410-7000, telephone (202) 708-1590.

• Regulation: Section IV.A.1 of the Notice of Allocations, Application Procedures, and Requirements for Homelessness Prevention and Rapid Re-Housing Program Grantees under the American Recovery and Reinvestment Act of 2009 (HPRP Notice).

Project/Activity: Homelessness Prevention and Rapid Re-Housing Program (HPRP) grantee, Metropolitan Government of Nashville and Davidson County (MGNDC), Nashville, Tennessee, requested a waiver of Section IV.A.1 of the HPRP Notice in order to place HPRP participants in housing owned by the subgrantee, Renewal House.

Nature of Requirement: Section IV.A.1. of the HPRP Notice provides that HPRP financial assistance may not be used in connection with housing owned by the grantee, subgrantee, or the parent, subsidiary, or affiliated organization of the subgrantee.

Granted By: Mercedes Márquez, Assistant Secretary for Community Planning and Development.

Date Granted: September 9, 2010.

Reason Waived: The grantee sufficiently demonstrated that: (1) The use of the housing owned by Renewal House was necessary to provide an adequate supply of appropriate housing options for HPRP participants; (2) Renewal House disclosed the conflict of interest; (3) MGNDC's attorney reviewed the conflict of interest and determined that the use of the housing owned by the subgrantee would not violate state or local law; (4) HPRP participants would not be required or steered to live in Renewal House's housing in order to receive financial or other assistance under HPRP; (5) the use of the housing owned by Renewal House would not result in any personal or financial gain for any employee of the grantee, subgrantee, or the parent, subsidiary, or affiliated organization of the subgrantee; and (6) the housing for which the grantee requested a waiver is not subsidized under another federal, state, or local housing program.

Contact: Ann M. Oliva, Director, Office of Special Needs Assistance Programs, Office of Community Planning and Development, Department of Housing and Urban Development, 451 7th Street, SW., Room 7262, Washington, DC 20410-7000, telephone number (202) 708-4300.

• Regulation: Section IV.A.1 of the HPRP Notice.

Project/Activity: HPRP grantee, the Commonwealth of Kentucky requested a waiver of Section IV.A.1 of the HPRP Notice to place HPRP participants in housing owned by the following subgrantees: Kentucky River Community Care, Inc., Kentucky Communities Economic Opportunities Council on Community Action Partnership, and People's Self-Help Housing, Inc.

Nature of Requirement: Section IV.A.1. of the HPRP Notice provides that HPRP financial assistance may not be used in connection with housing owned by the grantee, subgrantee, or the parent, subsidiary, or affiliated organization of the subgrantee.

Granted By: Mercedes Márquez, Assistant Secretary for Community Planning and Development.

Date Granted: August 11, 2010.

Reason Waived: The grantee sufficiently demonstrated that: (1) The use of the housing owned by the subgrantees was necessary to provide an adequate supply of appropriate housing options for HPRP participants; (2) the subgrantees disclosed the conflict of interest; (3) the subgrantee attorney's reviewed the conflict of interest and determined that the use of the housing owned by the subgrantees would not violate state or local law; (4) HPRP participants would not be required or steered to live in housing of the subgrantees in order to receive financial or other assistance under HPRP; and (5) the use of the housing owned by the subgrantees would not result in any personal or financial gain for any employee of the grantee, subgrantees, or the parent, subsidiary, or affiliated organization of the subgrantees.

Contact: Ann M. Oliva, Director, Office of Special Needs Assistance Programs, Office of Community Planning and Development, Department of Housing and Urban Development, 451 7th Street, SW., Room 7262, Washington, DC 20410-7000, telephone number (202) 708-4300.

II. Regulatory Waivers Granted by the Office of Housing

For further information about the following regulatory waivers, please see the name of the contact person that immediately follows the description of the waiver granted.

• Regulation: 24 CFR 200.72.

Project/Activity: Long Island College Hospital (LICH)—Brooklyn, NY.

Nature of Requirement: HUD's regulation at 24 CFR 200.72 provides that to be eligible for FHA programs, a project must be compliant with local zoning and building codes before a closing occurs.

Granted By: David H. Stevens, Assistant Secretary for Housing, Federal Housing Commissioner.

Date Granted: September 23, 2010.

Reason Waived: HUD's regulation at 24 CFR 200.72 requires LICH to obtain a “Permanent Certificate of Occupancy” from the New York Building Department before proceeding to “Final Endorsement.” In New York City, it is not unusual for hospitals to wait many years for a final occupancy certificate. This waiver would be only for HUD insured mortgage loan requirements so LICH may proceed to final closing. The Hospital must still comply with local ordinances and laws.

Contact: Roger Lukoff, Associate Deputy Assistant Secretary for Office of Healthcare Programs, Office of Housing, Department of Housing and Urban Development, 451 7th St., SW., Room 9224, Washington, DC 20410-8000, telephone (202) 402-4762.

• Regulation: 24 CFR 891.100(d).

Project/Activity: Catalpa Apartments, Springfield, MO, Project Number: 084-HD064/MO16-Q081-005.

Nature of Requirement: Section 891.100(d) prohibits amendment of the amount of the approved capital advance funds prior to closing.

Granted by: David H. Stevens, Assistant Secretary for Housing—Federal Housing Commissioner.

Date Granted: July 1, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6134, Washington, DC 20410-8000, telephone (202) 708-3000.

• Regulation: 24 CFR 891.100(d).

Project/Activity: Tomlinson Apartments, Vista, CA, Project Number: 129-HD030/CA33-Q041-001.

Nature of Requirement: Section 891.100(d) prohibits amendment of the amount of the approved capital advance funds prior to closing.

Granted by: David H. Stevens, Assistant Secretary for Housing—Federal Housing Commissioner.

Date Granted: July 16, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Washington, DC 20410-8000, telephone (202) 708-3000.

• Regulation: 24 CFR 891.100(d).

Project/Activity: Kappa House II Apartments, Cleveland, OH, Project Number: 042-EE206/OH12-S061-004.

Nature of Requirement: Section 891.100(d) prohibits amendment of the amount of the approved capital advance funds prior to closing.

Granted by: David H. Stevens, Assistant Secretary for Housing—Federal Housing Commissioner.

Date Granted: July 19, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6134, Washington, DC 20410-8000, telephone (202) 708-3000.

• Regulation: 24 CFR 891.100(d).

Project/Activity: Kateri Tekakwitha Senior Housing, Auburn, MA, Project Number: 023-EE219/MA06-S071-009.

Nature of Requirement: Section 891.100(d) prohibits amendment of the amount of the approved capital advance funds prior to closing.

Granted by: David H. Stevens, Assistant Secretary for Housing—Federal Housing Commissioner.

Date Granted: July 19, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6134, Washington, DC 20410-8000, telephone (202) 708-3000.

• Regulation: 24 CFR 891.100(d).

Project/Activity: Ogden Gardens, Philadelphia, PA, Project Number: 034 HD103/PA26-Q081-006.

Nature of Requirement: Section 891.100(d) prohibits amendment of the amount of the approved capital advance funds prior to closing.

Granted by: David H. Stevens, Assistant Secretary for Housing—Federal Housing Commissioner.

Date Granted: July 29, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6134, Washington, DC 20410-8000, telephone (202) 708-3000.

• Regulation: 24 CFR 891.100(d).

Project/Activity: ACL Clarksburg, Clarksburg, MA, Project Number: 023-HD231/MA06-Q081-001.

Nature of Requirement: Section 891.100(d) prohibits amendment of the amount of the approved capital advance funds prior to closing.

Granted by: David H. Stevens, Assistant Secretary for Housing—Federal Housing Commissioner.

Date Granted: August 10, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6134, Washington, DC 20410-8000, telephone (202) 708-3000.

• Regulation: 24 CFR 891.100(d).

Project/Activity: Cane Manor, New Iberia, LA, Project Number: 064-HD124/LA48-Q081-006.

Nature of Requirement: Section 891.100(d) prohibits amendment of the amount of the approved capital advance funds prior to closing.

Granted by: David H. Stevens, Assistant Secretary for Housing—Federal Housing Commissioner.

Date Granted: August 12, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6134, Washington, DC 20410-8000, telephone (202) 708-3000.

• Regulation: 24 CFR 891.100(d).

Project/Activity: AHEPA 63, Tallmadge, OH, Project Number: 042-EE218/OH12-S071-004.

Nature of Requirement: Section 891.100(d) prohibits amendment of the amount of the approved capital advance funds prior to closing.

Granted by: David H. Stevens, Assistant Secretary for Housing—Federal Housing Commissioner.

Date Granted: August 17, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6134, Washington, DC 20410-8000, telephone (202) 708-3000.

• Regulation: 24 CFR 891.100(d).

Project/Activity: Hempfield Apartments South, Greenville, PA, Project Number: 033-EE137/PA28-S081-004.

Nature of Requirement: Section 891.100(d) prohibits amendment of the amount of the approved capital advance funds prior to closing.

Granted by: David H. Stevens, Assistant Secretary for Housing—Federal Housing Commissioner.

Date Granted: August 18, 2010.

Reason Waived: The project is economically designed and comparable in cost to similar projects in the area, and the sponsor/owner exhausted all efforts to obtain additional funding from other sources.

Contact: Willie Spearmon, Director, Office of Housing Assistance and Grant Administration, Department of Housing and Urban Development, 451 7th Street, SW., Room 6134, Washington, DC 20410-8000, telephone (202) 708-3000.

• Regulation: 24 CFR 891.100(d).

Project/Activity: Chadwick Place II, Marion, OH, Project Number: 043-EE123/OH16-S081-002.

Nature of Requirement: Section 891.100(d) prohibits amendment of the amount of the approved capital advance funds prior to closing.

Granted by: David H. Stevens, Assistant Secretary for Housing—Federal Housing Commissioner.

Date Granted: September 8, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6134, Washington, DC 20410-8000, telephone (202) 708-3000.

• Regulation: 24 CFR 891.100(d).

Project/Activity: CPNJ West Orange Residence II, West Orange, NJ,

Project Number: 031-HD158/NJ39-Q081-004.

Nature of Requirement: Section 891.100(d) prohibits amendment of the amount of the approved capital advance funds prior to closing.

Granted by: David H. Stevens, Assistant Secretary for Housing—Federal Housing Commissioner.

Date Granted: September 9, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6134, Washington, DC 20410-8000, telephone (202) 708-3000.

• Regulation: 24 CFR 891.100(d).

Project/Activity: Five Talents Apartments, Lexington, MS, Project Number: 065-HD044/MS26-Q081-001.

Nature of Requirement: Section 891.100(d) prohibits amendment of the amount of the approved capital advance funds prior to closing.

Granted by: David H. Stevens, Assistant Secretary for Housing—Federal Housing Commissioner.

Date Granted: September 17, 2010.

Reason Waived: The project is economically designed and comparable in cost to similar projects in the area, and the sponsor/owner exhausted all efforts to obtain additional funding from other sources.

Contact: Willie Spearmon, Director, Office of Housing Assistance and Grant Administration, Department of Housing and Urban Development, 451 7th Street, SW., Room 6134, Washington, DC 20410-8000, telephone (202) 708-3000.

• Regulation: 24 CFR 891.100(d).

Project/Activity: Lutheran Commons At Pleasant Gap, Pleasant Gap, PA, Project Number: 034-EE157/PA26-S081-002.

Nature of Requirement: Section 891.100(d) prohibits amendment of the amount of the approved capital advance funds prior to closing.

Granted by: David H. Stevens, Assistant Secretary for Housing—Federal Housing Commissioner.

Date Granted: September 21, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6134, Washington, DC 20410-8000, telephone (202) 708-3000.

• Regulation: 24 CFR 891.100(d).

Project/Activity: St. Catharine's Senior Apartments, Mt. Penn, PA, Project Number: 034-EE160/PA26-S081-005.

Nature of Requirement: Section 891.100(d) prohibits amendment of the amount of the approved capital advance funds prior to closing.

Granted by: David H. Stevens, Assistant Secretary for Housing—Federal Housing Commissioner.

Date Granted: September 22, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6134, Washington, DC 20410-8000, telephone (202) 708-3000.

• Regulation: 24 CFR 891.100(d).

Project/Activity: Melinda's Melody, Christiansburg, VA, Project Number: 051-EE133/VA36-S081-008.

Nature of Requirement: Section 891.100(d) prohibits amendment of the amount of the approved capital advance funds prior to closing.

Granted by: David H. Stevens, Assistant Secretary for Housing—Federal Housing Commissioner.

Date Granted: September 22, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6134, Washington, DC 20410-8000, telephone (202) 708-3000.

• Regulation: 24 CFR 891.100(d).

Project/Activity: Spruce Place, Beaverton, OR, Project Number: 126-HD046/OR16-Q081-002.

Nature of Requirement: Section 891.100(d) prohibits amendment of the amount of the approved capital advance funds prior to closing.

Granted by: David H. Stevens, Assistant Secretary for Housing—Federal Housing Commissioner.

Date Granted: September 28, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6134, Washington, DC 20410-8000, telephone (202) 708-3000.

• Regulation: 24 CFR 891.100(d).

Project/Activity: CAAP-Place of Hope, Memphis, TN, Project Number: 081-HD026/TN40-Q081-005.

Nature of Requirement: Section 891.100(d) prohibits amendment of the amount of the approved capital advance funds prior to closing.

Granted by: David H. Stevens, Assistant Secretary for Housing—Federal Housing Commissioner.

Date Granted: September 30, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6134, Washington, DC 20410-8000, telephone (202) 708-3000.

• Regulation: 24 CFR 891.100(d).

Project/Activity: Keystone Place, St. Joseph, MO, Project Number: 084-HD063/MO16-Q081-004.

Nature of Requirement: Section 891.100(d) prohibits amendment of the amount of the approved capital advance funds prior to closing.

Granted by: David H. Stevens, Assistant Secretary for Housing—Federal Housing Commissioner.

Date Granted: September 30, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6134, Washington, DC 20410-8000, telephone (202) 708-3000.

• Regulation: 24 CFR 891.100(d).

Project/Activity: Whispering Hope, Lake Charles, LA, Project Number: 064-EE231/LA48-S081-009.

Nature of Requirement: Section 891.100(d) prohibits amendment of the amount of the approved capital advance funds prior to closing.

Granted by: David H. Stevens, Assistant Secretary for Housing—Federal Housing Commissioner.

Date Granted: September 30, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6134, Washington, DC 20410-8000, telephone (202) 708-3000.

• Regulation: 24 CFR 891.100(d) and 24 CFR 891.165.

Project/Activity: Western North Carolina Community Apartments #1, Charlotte, NC, Project Number: 053-HD240/NC19-Q071-004.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: David H. Stevens, Assistant Secretary for Housing—Federal Housing Commissioner.

Date Granted: July 16, 2010.

Reason Waived: The project is economically designed and comparable in cost to similar projects in the area, and the sponsor/owner exhausted all efforts to obtain additional funding from other sources and the project was delayed while a new site was obtained and new construction requirements imposed by the City of Charlotte/Mechlenburg County were addressed.

Contact: Willie Spearmon, Director, Office of Housing Assistance and Grant Administration, Office of Housing, Department of Housing and Urban Development, 451 7th Street, SW., Room 6134, Washington, DC 20410-8000, telephone (202) 708-3000.

• Regulation: 24 CFR 891.100(d) and 24 CFR 891.165.

Project/Activity: St. Theresa's Elderly Housing (aka: Rose Hill Manor), Billerica, MA, Project Number: 023-EE216/MA06-S071-006.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: David H. Stevens, Assistant Secretary for Housing—Federal Housing Commissioner.

Date Granted: August 10, 2010.

Reason Waived: The project is economically designed and comparable in cost to similar projects in the area, and the sponsor/owner exhausted all efforts to obtain additional funding from other sources and additional time was needed for the project to be restructured since it was no longer feasible to use low income housing tax credits.

Contact: Willie Spearmon, Director, Office of Housing Assistance and Grant Administration, Office of Housing, Department of Housing and Urban Development, 451 7th Street, SW., Room 6134, Washington, DC 20410-8000, telephone (202) 708-3000.

• Regulation: 24 CFR 891.100(d) and 24 CFR 891.165.

Project/Activity: Hale Oli Group Home, Ewa Beach, HI, Project Number: 140-HD032/HI10-Q071-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: David H. Stevens, Assistant Secretary for Housing—Federal Housing Commissioner.

Date Granted: September 8, 2010.

Reason Waived: The project is economically designed and comparable in cost to similar projects in the area, and the sponsor/owner exhausted all efforts to obtain additional funding from other sources and additional time was needed for the project to achieve an initial closing.

Contact: Willie Spearmon, Director, Office of Housing Assistance and Grant Administration, Office of Housing, Department of Housing and Urban Development, 451 7th Street, SW., Room 6134, Washington, DC 20410-8000, telephone (202) 708-3000.

• Regulation: 24 CFR 891.165.

Project/Activity: Sierra Manor II, Reno, NV, Project Number: 125-EE129/NV25-S061-003.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: July 16, 2010.

Reason Waived: Additional time was needed for the sponsor/owner to submit additional documentation on the general contractor, for the firm commitment application to be issued and for the project to achieve an initial closing.

Contact: Willie Spearmon, Director, Office of Housing Assistance and Grant Administration, Office of Housing, Department of Housing and Urban Development, 451 7th Street, SW., Room 6134, Washington, DC 20410-8000, telephone (202) 708-3000.

• Regulation: 24 CFR 891.165.

Project/Activity: AHEPA Apartments #63, Tallmadge, OH, Project Number: 042-EE218/OH12-S071-004.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: August 6, 2010.

Reason Waived: Additional time was needed for the sponsor/owner to resolve opposition issues from neighbors abutting the site, negotiate water drain easement, resubmit the firm commitment application and for the project to be initially closed.

Contact: Willie Spearmon, Director, Office of Housing Assistance and Grant Administration, Office of Housing, Department of Housing and Urban Development, 451 7th Street, SW., Room 6134, Washington, DC 20410-8000, telephone (202) 708-3000.

• Regulation: 24 CFR 891.165.

Project/Activity: AHEPA Apartments #63, Tallmadge, OH, Project Number: 042-EE218/OH12-S071-004.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: September 6, 2010.

Reason Waived: Additional time was needed for the sponsor/owner to prepare and submit the initial closing package and for the project to be initially closed.

Contact: Willie Spearmon, Director, Office of Housing Assistance and Grant Administration, Office of Housing, Department of Housing and Urban Development, 451 7th Street, SW., Room 6134, Washington, DC 20410-8000, telephone (202) 708-3000.

• Regulation: 24 CFR 891.165.

Project/Activity: Cedar Street Apartments, Redwood City, CA, Project Number: 121-HD090/CA39-Q071-002.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: September 15, 2010.

Reason Waived: Additional time was needed for the firm commitment to be issued and for the project to achieve an initial closing.

Contact: Willie Spearmon, Director, Office of Housing Assistance and Grant Administration, Office of Housing, Department of Housing and Urban Development, 451 7th Street, SW., Room 6134, Washington, DC 20410-8000, telephone (202) 708-3000.

• Regulation: 24 CFR 891.165.

Project/Activity: Willow Glen Apartments (aka Newton Falls), Newton Falls, OH, Project Number: 042-EE223/OH12-S071-009.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: September 17, 2010.

Reason Waived: Additional time was needed for HUD to review the firm commitment application and for the project to be initially closed.

Contact: Willie Spearmon, Director, Office of Housing Assistance and Grant Administration, Office of Housing, Department of Housing and Urban Development, 451 7th Street, SW., Room 6134, Washington, DC 20410-8000, telephone (202) 708-3000.

• Regulation: 24 CFR 891.165.

Project/Activity: Park Side Apartments, Terra Alta, WV, Project Number: 045-EE031/WV15-S071-002.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: September 22, 2010.

Reason Waived: Additional time was needed for the sponsor/owner to revise the closing documents and for the project to achieve an initial closing.

Contact: Willie Spearmon, Director, Office of Housing Assistance and Grant Administration, Office of Housing, Department of Housing and Urban Development, 451 7th Street, SW., Room 6134, Washington, DC 20410-8000, telephone (202) 708-3000.

• Regulation: 24 CFR 891.130(b), 891.830(b) and 891.830(c)(4).

Project/Activity: Oakwood Shores Senior Apartments, Chicago, IL, Project Number: 121-EE205/CA39-S081-001.

Nature of Requirement: Section 891.130(b) an identity of interest between the Sponsor or Owner (or Borrower, as applicable) and any development team member or between development team members is prohibited until two years after final closing. Section 891.830(b) allows the capital advance funds be drawn down only in an approved ratio to other funds, in accordance with draw down schedule approved by HUD. Section 891.830(c) (4) permits the capital advance drawn down will be used only for eligible costs actually incurred in accordance with the provisions of this subpart and the approved mixed-finance project.

Granted by: David H. Stevens, Assistant Secretary for Housing—Federal Housing Commissioner.

Date Granted: July 19, 2010.

Reason Waived: The waiver was granted to allow the investor to have more than one role in the mixed finance transaction and additional time was needed for the sponsor/owner to obtain a new investor, to permit capital advance funds be expended before the tax credit equity. Additionally, granting of the waiver would allow the capital advance to be expended before the tax credit equity and to permit capital advance funds to pay off that portion of the tax exempt bonds that strictly relate to capital advance eligible costs after completion of construction at initial/final closing.

Contact: Willie Spearmon, Director, Office of Housing Assistance and Grant Administration, Office of Housing, Department of Housing and Urban Development, 451 7th Street, SW, Room 6134, Washington, DC 20410-8000, telephone (202) 708-3000.

III. Regulatory Waivers Granted by the Office of Public and Indian Housing

For further information about the following regulatory waivers, please see the name of the contact person that immediately follows the description of the waiver granted.

• Regulation: 24 CFR 5.801(d)(1).

Project/Activity: Housing Authority (HA) of the City of New Haven (CT004), New Haven, CT.

Nature of Requirement: HUD's regulation at 24 CFR 5.801(d)(1) establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing.

Date Granted: August 6, 2010.

Reason Waived: The HA submitted that it had encountered several internal control problems that contributed to the delay in submitting the FYE 2008 audit, thereby delaying submission of the FYE 2009 audited financial information. Primarily, conversion to a new accounting system resulted in an insufficient audit trail. As a result, both the HA and the auditors could not be assured the HA account balances were being properly recorded. The waiver was partially approved. Specifically, the HA requested a six month waiver of the audited financial submission reporting requirements, however, HUD granted three month waiver. In granting the waiver, HUD required the HA to submit its FYE September 30, 2009, audited financial information no later than September 30, 2010. The waiver provided the HA with additional time to input and complete the June 30, 2009, audited financial information.

Contact: Johnson Abraham, Acting Program Manager, NASS, Real Estate Assessment Center, Office of Public and Indian Housing, Department of Housing and Urban Development, 50 12th Street, SW., Suite 100, Washington, DC 20410-5000, telephone (202) 475-8583.

• Regulation: 24 CFR 5.801(d)(1).

Project/Activity: Housing Authority (HA) of Fulton County, (GA264), Atlanta, GA.

Nature of Requirement: HUD's regulation at 24 CFR 5.801(d)(1) establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing.

Date Granted: August 6, 2010.

Reason Waived: The HA submitted that the FYE September 30, 2009, audit was started in April 2010; however, additional compliance testing and validation were required by the auditors as a result of problems with the agency's financial data. In addition, the HA reported that significant turnover of key management positions which included the Executive Director and the Chief financial Officer also contributed to the delay. The HA stated as a result of these events, the audit could not be completed by the due date. The waiver was approved and the HA was given an additional 30 days to permit the audit documentation to be adequately completed and to allow sufficient time for drafting the financial statements and inputting the September 30, 2009, audited financial information into the online system.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 5.801(d)(1).

Project/Activity: Housing Authority (HA) of the City of Vineland, (NJ063), Vineland, NJ.

Nature of Requirement: HUD's regulation at 24 CFR 5.801(d)(1) establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing.

Date Granted: August 6, 2010.

Reason Waived: The HA submitted that the auditor experienced unforeseen health issues that prevented the auditor from completing the audit due date for FYE September 30, 2009. The waiver was granted and the HA was given an additional 30 days to permit the audit documentation to be adequately completed and allow sufficient time for drafting financial statements and imputing the September 30, 2009, audited financial information into the online system.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 5.801(d)(1).

Project/Activity: Rockingham Housing Authority (HA), (NC025), Rockingham, NC.

Nature of Requirement: HUD's regulation at 24 CFR 5.801(d)(1) establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing.

Date Granted: August 13, 2010.

Reason Waived: The HA submitted that as a result of a federal and local investigation, several of the HA's tenant, financial and personnel files were seized. In addition, the HA reported that a new administration arrived at the HA in December 2009, and discovered that the procurement of audit services for FY 2009 audit had not been completed. Subsequently, a contract was executed on April 21, 2010. The waiver was granted and the additional time would permit the audit documentation to be adequately completed and allow sufficient time for drafting the financial statements and imputing the June 30, 2009, audited financial information into the online system. The waiver required the HA to submit its FYE June 30, 2009, audited financial information no later than August 31, 2010.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: City of Phoenix Housing Department (HA), (AZ001), Phoenix, AZ.

Nature of Requirement: HUD's regulation at 24 CFR 902.40 establishes that public housing agencies are required to submit a management operations certification under Public Housing Assessment System (PHAS). In accordance with Federal Register Notice (FR-5428-N-01), dated July 23, 2010, Public housing agencies that requested and was granted a waiver for their management operations certification for FYEs June 30, 2009, or September 30, 2009, may request another waiver for the FYE June 30, 2010, or September 30, 2010.

Granted By: Sandra B. Henriquez, Assistant Secretary for Public and Indian Housing.

Date Granted: August 13, 2010.

Reason Waived: The HA was granted a waiver from HUD on May 10, 2010. However, the HA remained in the process of continuing its conversion to asset management and purchased a new business system that would be able to track information at the Asset Management project level. The system is not yet fully functional and the HA advised that it would need to utilize data from both the old and new systems, along with relevant paper documents in order to ensure that the retrieved data would be accurate and would not contain duplicate information. Since this would result in a continuing administrative hardship, the waiver was granted.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Housing Authority of the County of Beaver (HA), (PA014), Beaver, PA.

Nature of Requirement: HUD's regulation at 24 CFR 902.40 establishes that public housing agencies are required to submit a management operations certification under Public Housing Assessment System (PHAS). In accordance with Federal Register Notice (FR-5428-N-01), dated July 23, 2010, Public housing agencies that requested and was granted a waiver for their management operations certification for FYEs June 30, 2009, or September 30, 2009, may request another waiver for the FYE June 30, 2010, or September 30, 2010.

Granted By: Sandra B. Henriquez, Assistant Secretary for Public and Indian Housing.

Date Granted: September 01, 2010.

Reason Waived: The HA was granted a waiver for June 30, 2009, but the HA remained in the process of continuing its conversion to asset management. The HA stated that amassing the required information in support of the current MASS submission requirement would result in an administrative hardship. The waiver was granted for FYE June 30, 2010 and the most recent management operations score of record were allowed to be carried over to the fiscal year being assessed.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Altoona Housing Authority (HA), (PA031), Altoona, PA.

Nature of Requirement: HUD's regulation at 24 CFR 902.40 establishes that public housing agencies are required to submit a management operations certification under Public Housing Assessment System (PHAS). In accordance with Federal Register Notice (FR-5428-N-01), dated July 23, 2010, Public housing agencies that requested and was granted a waiver for their management operations certification for FYEs June 30, 2009, or September 30, 2009, may request another waiver for the FYE June 30, 2010, or September 30, 2010.

Granted By: Sandra B. Henriquez, Assistant Secretary for Public and Indian Housing.

Date Granted: September 01, 2010.

Reason Waived: The HA was granted a waiver for June 30, 2009, but the HA remained in the process of continuing its conversion to asset management. The HA stated that amassing the required information in support of the current MASS submission requirement would result in an administrative hardship. The waiver was granted for FYE June 30, 2010 and the most recent management operations score of record were allowed to be carried over to the fiscal year being assessed.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Allegheny County Housing Authority (HA), (PA006), Pittsburgh, PA.

Nature of Requirement: HUD's regulation at 24 CFR 902.40 establishes that public housing agencies are required to submit a management operations certification under Public Housing Assessment System (PHAS). In accordance with Federal Register Notice (FR-5428-N-01), dated July 23, 2010, Public housing agencies that requested and was granted a waiver for their management operations certification for FYEs June 30, 2009, or September 30, 2009, may request another waiver for the FYE June 30, 2010, or September 30, 2010.

Granted By: Sandra B. Henriquez, Assistant Secretary for Public and Indian Housing.

Date Granted: September 1, 2010.

Reason Waived: The HA was granted a waiver for June 30, 2009, and the HA successfully completed its conversion to asset management. The HA completely changed its software systems and its management procedures for its 33 Asset Management Projects. Reversing these systems and manually amassing the information would impose a burdensome and time consuming administrative hardship. For this reason, the waiver was granted for FYE June 30, 2010 and the most recent management operations score of record were allowed to be carried over to the fiscal year being assessed.

Contact: Johnson Abraham, Acting Program Manager, NASS, Real Estate Assessment. Center, Office of Public and Indian Housing, Department of Housing and Urban Development, 550 12th Street, SW., Suite 100, Washington, DC 20410-5000, telephone (202) 475-8583.

• Regulation: 24 CFR 902.40.

Project/Activity: Fayette County Housing Authority (HA), (PA015), Uniontown, PA.

Nature of Requirement: HUD's regulation at 24 CFR 902.40 establishes that public housing agencies are required to submit a management operations certification under Public Housing Assessment System (PHAS). In accordance with Federal Register Notice (FR-5428-N-01), dated July 23, 2010, Public housing agencies that requested and was granted a waiver for their management operations certification for FYEs June 30, 2009, or September 30, 2009, may request another waiver for the FYE June 30, 2010, or September 30, 2010.

Granted By: Sandra B. Henriquez, Assistant Secretary for Public and Indian Housing.

Date Granted: September 10, 2010.

Reason Waived: The HA requested a waiver of the management operations certification requirements for the fiscal year ending (FYE) June 30, 2010. The HA was granted a waiver for the FYE June 30, 2009, and remains in the process of continuing its conversion to asset management. The HA began implementing the required changes in its software and record keeping systems to meet the new reporting requirements. Because it was determined that manually gathering data in support of the current MASS submission requirements would be difficult, time consuming, and result in an administrative hardship, the waiver was granted for FYE June 30, 2010 and the most recent management operations score of record were allowed to be carried over to the fiscal year being assessed.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 902.40.

Project/Activity: Winston-Salem Housing Authority (HA), (NC012), Winston-Salem, PA.

Nature of Requirement: HUD's regulation at 24 CFR 902.40 establishes that public housing agencies are required to submit a management operations certification under Public Housing Assessment System (PHAS). In accordance with Federal Register Notice (FR-5428-N-01), dated July 23, 2010, Public housing agencies that requested and was granted a waiver for their management operations certification for FYEs June 30, 2009, or September 30, 2009, may request another waiver for the FYE June 30, 2010, or September 30, 2010.

Granted By: Sandra B. Henriquez, Assistant Secretary for Public and Indian Housing.

Date Granted: September 10, 2010.

Reason Waived: The HA requested a waiver of the management operations certification requirements for the fiscal year ending (FYE) September 30, 2010. The HA was granted a waiver for the FYE September 30, 2009, and completed its conversion to asset management. The HA reported that it no longer tracks management operations at all of its public housing sites, including its HOPE VI sites that are privately managed and converted its existing software program to track operations individually at each of its asset management project sites. Because the resources required to accurately produce the required reports to support a consolidated management operations certification are no longer available and would result in a continuing administrative hardship, the waiver was granted. The waiver was granted for FYE September 30, 2010, and the most recent management operations score of record were allowed to be carried over to the fiscal year being assessed.

Contact: Johnson Abraham, Acting Program Manager, NASS, Real Estate Assessment Center, Office of Public and Indian Housing, Department of Housing and Urban Development, 550 12th Street, SW., Suite 100, Washington, DC 20410-5000, telephone (202) 475-8583.

• Regulation: 24 CFR 982.505(c)(3).

Project/Activity: Indianapolis Housing Authority (IHA), Indianapolis, IN.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: July 2, 2010.

Reason Waived: This waiver was granted because this cost-saving measure would enable the IHA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(c)(3).

Project/Activity: Inglewood Housing Authority (IHA), Inglewood, CA.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: July 2, 2010.

Reason Waived: This waiver was granted because this cost-saving measure would enable the IHA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(c)(3).

Project/Activity: Housing Authority of Skagit County (HASC), Skagit County, WA.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: July 8, 2010.

Reason Waived: This waiver was granted because this cost-saving measure would enable the HASC to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(c)(3).

Project/Activity: West Springfield Housing Authority (WSHA), West Springfield, MA.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: July 8, 2010.

Reason Waived: This waiver was granted because this cost-saving measure would enable the WSHA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(c)(3).

Project/Activity: Worthington Housing and Redevelopment Authority (WHRA), Worthington, MN.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: July 8, 2010.

Reason Waived: This waiver was granted because this cost-saving measure would enable the WHRA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(c)(3).

Project/Activity: Crookston Housing and Economic Development Authority (CHEDA), Crookston, MN.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: July 19, 2010.

Reason Waived: This waiver was granted because this cost-saving measure would enable the CHEDA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(c)(3).

Project/Activity: East Chicago Housing Authority (ECHA), East Chicago, IN.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: July 20, 2010.

Reason Waived: This waiver was granted because this cost-saving measure would enable the ECHA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(c)(3).

Project/Activity: Carbon County Housing Authority (CCHA), Carbon County, PA.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: July 29, 2010.

Reason Waived: This waiver was granted because this cost-saving measure would enable the CCHA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(c)(3).

Project/Activity: LeSueur County Housing and Redevelopment Authority (LCHRA), LeSueur County, MN.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: July 29, 2010.

Reason Waived: This waiver was granted because this cost-saving measure would enable the LCHRA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(c)(3).

Project/Activity: Randolph County Housing Authority (RCHA), Randolph County, IL.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: August 6, 2010.

Reason Waived: This waiver was granted because this cost-saving measure would enable the RCHA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(c)(3).

Project/Activity: Richmond Housing Authority (RHA), Richmond, IN.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: August 13, 2010.

Reason Waived: This waiver was granted because this cost-saving measure would enable the RHA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(c)(3).

Project/Activity: Terrebonne Parish Consolidated Government (TPCG), Terrebonne Parish, LA.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: August 18, 2010.

Reason Waived: This waiver was granted because this cost-saving measure would enable the TPCG to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(c)(3).

Project/Activity: People Incorporated of Southwest Virginia (PISV), Arlington, VA.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: September 21, 2010.

Reason Waived: This waiver was granted because this cost-saving measure would enable the PISV to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(d).

Project/Activity: Housing Authority of the City of Los Angeles (HACLA), Los Angeles, CA.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: July 2, 2010.

Reason Waived: The participant, who is disabled, required an exception payment standard to remain in her assisted unit. Her health care provider confirmed the need for this participant to remain in her unit. To provide this reasonable accommodation so the client could be assisted in her current unit and pay no more than 40 percent of her adjusted income toward the family share, the HACLA was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 7th Street, SW., Room 4210, Washington, DC 20410-5000, (202) 708-0477.

• Regulation: 24 CFR 982.505(d).

Project/Activity: Cumberland County Housing Authority, Cumberland (CCHA), Cumberland County, PA.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: July 20, 2010.

Reason Waived: The participant, who has a disabled daughter, required an exception payment standard to remain in her assisted unit as her daughter's health care provider recommended that she not relocate. To provide this reasonable accommodation so the client could be assisted in her current unit and pay no more than 40 percent of her adjusted income toward the family share, the CCHA was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(d).

Project/Activity: Grand Forks Housing Authority (GFHA), Grand Forks, ND.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: August 13, 2010.

Reason Waived: The participant, who is disabled, required a wheelchair-accessible unit. To provide this reasonable accommodation so the client could be assisted in this unit and pay no more than 40 percent of her adjusted income toward the family share, the GFHA was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(d).

Project/Activity: Lincoln Housing Authority (LHA), Lincoln, RI.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: August 13, 2010.

Reason Waived: The applicant, who is disabled, needed a unit free of chemical fumes. To provide this reasonable accommodation so the client could be assisted in this unit and pay no more than 40 percent of her adjusted income toward the family share, the LHA was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(d).

Project/Activity: Northeast Oregon Housing Authority (NOHA), La Grande, OR.

Nature of Requirement: HUD's regulation 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: August 17, 2010.

Reason Waived: The participant, who is disabled, required a wheelchair-accessible unit with yard space for a service dog to provide reasonable accommodation. To provide this reasonable accommodation so the client could be assisted in this current unit and pay no more than 40 percent of her adjusted income toward the family share, the NOHA was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 983.55(b).

Project/Activity: Minneapolis Public Housing Authority (MPHA), Minneapolis, MN.

Nature of Requirement: HUD's regulation at 24 CFR 983.55(b) states that the public housing agency may not enter an agreement to enter into a housing assistance payments contract (AHAP) until HUD or an independent entity approved by HUD has conducted any required subsidy layering review and determined that the project-based voucher assistance is in accordance with HUD subsidy layering requirements.

Granted By: Sandra B. Henriquez, Assistant Secretary for Public and Indian Housing.

Date Granted: September 2, 2010.

Reason Waived: This waiver was granted because MPHA misunderstood the requirements and did not attempt to avoid compliance. The project also complied with HUD's strategic goal of increasing the number of affordable housing for families.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 983.58(d)(1)(i), 983.152(b), and 983.153(a) and (b).

Project/Activity: Minneapolis Public Housing Authority (MPHA), Minneapolis, MN.

Nature of Requirement: HUD's regulation at 24 CFR 983.58(d)(1)(i) prohibits a public housing agency (PHA) from entering into an Agreement to Enter into a HAP Contract (AHAP) or starting construction until such time as the responsible entity has completed the environmental review and HUD has approved the environmental certification and request for release of funds. HUD's regulation at 24 CFR 983.152(b) requires that a PHA enter into an AHAP in which the owner agrees to develop the contract units to comply with housing quality standards (HQS) and the PHA agrees that, upon timely completion of such development in accordance with the terms of the AHAP, the PHA will enter into a HAP contract with the owner for the units. HUD's regulation at 24 CFR 983.153(a) and (b) states that: (a) The PHA may not enter the AHAP with the owner until the subsidy layering review is completed; and (b) the PHA may not enter the AHAP with the owner until the environmental review is completed and the PHA has received the environmental approval.

Granted By: Sandra B. Henriquez, Assistant Secretary for Public and Indian Housing.

Date Granted: August 13, 2010.

Reason Waived: Based on the documentation that was reviewed by the field office showing that environmental review requirements were met and that the developer complied with the requirements under the AHAP, as well as the fact that without a commitment of PBV assistance the viability of six projects as affordable housing to replace the significant loss of affordable housing units as a result of Hurricane Katrina would be in jeopardy.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 983.152(a) and 983.153(c).

Project/Activity: Housing Authority of the City of Los Angeles (HACLA), Los Angeles, CA.

Nature of Requirement: HUD's regulation at 983.152(a) requires that a public housing agency (PHA) must enter into an Agreement to Enter into a Housing Assistance Payments (AHAP) Contract in a form required by HUD. HUD's regulation at 24 CFR 983.153(c) requires prompt execution of the AHAP after PHA notice of proposal selection to the selected owner.

Granted By: Sandra B. Henriquez, Assistant Secretary for Public and Indian Housing.

Date Granted: August 17, 2010.

Reason Waived: The waivers were granted because the owner certified that the developer complied with the requirements under the AHAP, and because the unique circumstances surrounding the need for PBV assistance for the project as an integral piece of a much larger funding commitment to serve low-income elderly, homeless and special needs populations.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 990.240(b).

Project/Activity: Public housing operating subsidy, Alaska Housing Finance Corporation.

Nature of Requirement: HUD's regulation at 24 CFR 990.240(b) prohibits appeals of the operating subsidy formula for individual public housing projects in housing authorities with less than 5,000 public housing units.

Granted By: The Deputy Secretary.

Date Granted: September 13, 2010.

Reason Waived: The waiver was granted so the PHA could appeal its operating fund formula for calendar year 2010. The appeal was for unusually high vacancies in two public housing projects in remote areas of the state.

Contact: Kevin J. East, Office of Public and Indian Housing, Department of Housing and Urban Development, 451 7th Street, SW., Room 4210, Washington DC 20410-5000; telephone (202) 475-8575.

[FR Doc. 2010-32444 Filed 12-23-10; 8:45 am]

BILLING CODE 4210-67-P